DEPARTMENT OF COMMERCE

National Oceanic and Atmospheric Administration

[I.D. 100703D]

Marine Mammals; Photography Permit Application No. 997-1704

AGENCY: National Marine Fisheries Service (NMFS), National Oceanic and Atmospheric Administration (NOAA), Commerce.

ACTION: Issuance of permit.

SUMMARY: Notice is hereby given that Bob McLaughlin, P.O. Box 496, 339 Glenwood, Eastsound, Washington 98245, has been issued a permit to take several species of non-listed marine mammals for purposes of commercial/educational photography.

ADDRESSES: The permit and related documents are available for review upon written request or by appointment in the following office(s):

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249; and,

Southwest Region, NMFS, 501 West Ocean Blvd., Suite 4200, Long Beach, CA 90802-4213; phone (562)980-4001; fax (562)980-4018.

FOR FURTHER INFORMATION CONTACT: Jennifer Jefferies or Ruth Johnson, (301)713-2289.

SUPPLEMENTARY INFORMATION: On June 26, 2003, notice was published in the Federal Register (68 FR 38011) that a request for a photography permit to take several species of non-listed marine mammals for purposes of commercial/educational photography had been submitted by the above-named individual. A correction to the first Notice was published on July 9, 2003 (68 FR 40911) in order to correct an erroneous statement as stated in the first Notice. The original Notice stated that NMFS was unable to issue photography permits for depleted marine mammal species but the Marine Mammal Protection Act of 1972, as amended (16 U.S.C. 1361 et seq.) does not prohibit these activities for depleted species. The requested permit has been issued under the authority of the Marine Mammal Protection Act of 1972, as amended (16 U.S.C. 1361 et seq.), and the Regulations Governing the Taking and Importing of Marine Mammals (50 CFR part 216).

The purpose of the proposed project is to film several species of non-listed marine mammals for an ongoing project that is tentatively titled “Death of an Ecosystem?”. While this project has been ongoing for several years, Mr. McLaughlin desires to film from a closer vantage point, i.e. within 100 yards of an individual animal. The closeness of filming would be considered Level B harrassment and therefore would require a permit under the MMPA. The photographers intend to attempt to document marine mammal movement and aggregation under varying conditions including the presence of boat traffic. This will be done using a fusion of passive acoustic recording equipment with different filming equipment, including still and video, as well as different filming platforms, including elevated filming platforms. The action area will include waters off the coasts of California, Oregon, Washington and Alaska. The resulting film footage will be dispensed in part for print and broadcast media, to researchers as well as for educational purposes. The Permit will expire on October 31, 2005.

Dated: October 17, 2003.
Stephen L. Leathery,
Chief, Permits, Conservation and Education Division, Office of Protected Resources, National Marine Fisheries Service.

[FR Doc. 03-26800 Filed 10-22-03; 8:45 am]

BILLING CODE 3510-22-S